DEPARTMENT OF HEALTH AND HUMAN SERVICES

Centers for Medicare & Medicaid Services

[Document Identifiers: CMS-10108, CMS-10268, CMS-10316, and CMS-10478]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicaid Managed Care Regulations; Use: Medicaid enrollees use the information collected and reported to make informed choices regarding health care, including how to access health care services and the grievance and appeal system. States use the information collected and reported as part of its contracting process with managed care entities, as well as its compliance oversight role. The CMS uses the information collected and reported in an oversight role of state Medicaid managed care programs. Form Number: CMS-10108 (OCN: 0938-0920); Frequency: Occasionally; Affected Public: Individuals or households, Private sector (business or other for-profit and not-for-profit institutions), and State, local or Tribal Government; Number of Respondents: 1,640,223; Total Annual Responses: 5,217,333; Total Annual Hours: 5,872,255. (For policy questions regarding this collection contact Amy Gentile at 410-786-3499. For all other issues call 410-786-1326.)

2. Type of Information Collection Request: Reinstatement of a currently approved collection; Title of Information Collection: Consolidated Renal Operations in a Web Enabled Network (CROWNWeb) Third-party Submission Authorization Form Use: The Consolidated Renal Operations in a Web Enabled Network (CROWNWeb) Third-Party Submission Authorization (CWTPSA) form is to be completed by “Facility Administrators” (administrators of CMS-certified dialysis facilities) if they intend to authorize a third party (a business with which the facility is associated, or an independent vendor) to submit data to CMS to comply with the recently-revised Conditions for Coverage of dialysis facilities. The CROWNWeb system is the system used as the collection point of data necessary for entitlement of ESRD patients to Medicare benefits and for Federal Government monitoring and assessing of the quality and types of care provided to renal patients. The information collected through the CWTPSA form will allow CMS and its contractors to receive data from authorized parties acting on behalf of CMS-certified dialysis facilities. Since February 2009, CMS has received 4,160 CWTPSA forms and anticipates that they will continue to receive no more than 400 new CWTPSA forms annually to address the creation of new facilities under the current participating “third party submitters.” Form Number: CMS-10268 (OCN: 0938-1052); Frequency: Occasionally; Affected Public: Private Sector; Business or other for-profits and Not-for-profit institutions; Number of Respondents: 400; Total Annual Responses: 400; Total Annual Hours: 34. (For policy questions regarding this collection contact Michelle Tucker at 410-786-0736. For all other issues call 410-786-1326.)

3. Type of Information Collection Request: Revision of a currently approved collection. Title of Information Collection: Implementation of the Medicare Prescription Drug Plan (PDP) and Medicare Advantage (MA) Plan Disenrollment Reasons Survey. Use: This data collection complements the satisfaction data collected through the Medicare Consumer Assessment of Healthcare Providers and Systems survey by providing dissatisfaction data in the form of reasons for disenrollment from a Prescription Drug Plan. The data collected in this survey can be used to improve the operation of Medicare Advantage (both MA and MA-PD) contracts and standalone PDPs through the identification of beneficiary disenrollment reasons. Plans can use the information to guide quality improvement efforts. The data can also be used by beneficiaries who need to choose among the different MA and PDP options. To the extent that these data identify areas for improvement at the contract level they can be used to inform CMS contract oversight. Form Number: CMS-10316 (OCN: 0938-1113). Frequency: Yearly; Affected Public: Individuals or households; Number of Respondents: 88,492; Total Annual Responses: 88,492; Total Annual Hours: 22,887. (For policy questions regarding this collection contact Sai Ma at 410-786-1479. For all other issues call 410-786-1326.)

4. Type of Information Collection Request: New collection (request for a new OMB control number). Title of Information Collection: National Implementation of In-Center Hemodialysis CAHPS Survey. Use: Data collected in the national implementation of the In-center Hemodialysis Consumer Assessment of Healthcare Providers and Systems (CAHPS) Survey will be used for the following purposes: (1) To provide a source of information from which selected measures can be publicly reported to beneficiaries as a decision aid for dialysis facility selection; (2) to aid facilities with their internal quality improvement efforts and external benchmarking with other facilities; (3) to provide CMS with information for monitoring and public reporting purposes; and (4) to support the end-stage renal disease value-based purchasing program. Form Number: CMS-10478 (OCN: 0938-New); Frequency: Semi-annually and once; Affected Public: Individuals or households; Number of Respondents: 165,000; Total Annual Responses: 165,000; Total Annual Hours: 87,750. (For policy questions regarding this collection contact Elizabeth Goldstein at 410-786-6665. For all other issues call 410-786-1326.)

To obtain copies of the supporting statement and any related forms for the proposed paperwork collections referenced above, access CMS' Web site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by June 18, 2013:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number __, Room C4-26-05, 7500 Security Boulevard, Baltimore, Maryland 21244-1850.

Dated: April 16, 2013.
Martique Jones,
Deputy Director, Regulations Development Group, Office of Strategic Operations and Regulatory Affairs.

[FR Doc. 2013-09267 Filed 4-18-13; 8:45 am]

BILLING CODE 4120-01-P